NUCLEAR REGULATORY COMMISSION

[Docket No. 50-263]

Nuclear Management Company, LLC; Notice of Withdrawal of Application for Amendment to Facility Operating License

The U.S. Nuclear Regulatory Commission (the Commission) has granted the request of Nuclear Management Company, LLC (the licensee), to withdraw its November 28, 2000, application for proposed amendment to Facility Operating License No. DPR-22 for the Monticello Nuclear Generating Plant, Unit No. 1, located in Wright County, Minnesota.

The proposed amendment would have revised the facility Technical Specifications (TSs) by establishing TSs for the emergency service water system and by adding a general limiting condition for operation to provide requirements when a support system included in the TSs is inoperable.

The Commission had previously issued a Notice of Consideration of Issuance of Amendment published in the Federal Register on December 27, 2000 (65 FR 81925). However, by letter dated February 28, 2001, the licensee withdrew the proposed change.

For further details with respect to this action, see the application for amendment dated November 28, 2000, and the licensee's letter dated February 28, 2001, which withdrew the application for license amendment. Documents may be examined, and/or copied for a fee, at the Commission's Public Document Room, located at One White Flint North, 11555 Rockville Pike (first floor), Rockville, Maryland, and which is accessible electronically through the ADAMS Public Electronic Reading Room link at the NRC Web site (http://www.nrc.gov).

Dated at Rockville, Maryland, this 14th of March 2001.
For the Nuclear Regulatory Commission.
Carl F. Lyon,
Project Manager, Section 1, Project Directorate III, Division of Licensing Project Management, Office of Nuclear Reactor Regulation.

[FR Doc. 01-6979 Filed 3-20-01; 8:45 am]

BILLING CODE 7590-01-P